DEPARTMENT OF JUSTICE

Notice of Lodging of Proposed Consent Decree Under the Clean Water Act

On April 22, 2016, the Department of Justice lodged a proposed Consent Decree in the United States District Court for the Middle District of Louisiana in the lawsuit titled United States and Louisiana Department of Environmental Quality v. ORB Exploration, LLC, Civil Action No. 16-260-JJB-RLB.

This case concerns three oil spills, one in 2013 and two in 2015, at locations in the Atchafalaya River Basin, from oil production facilities owned and operated by ORB Exploration, LLC (ORB), as well as ORB's failure to comply with a Coast Guard order issued during the cleanup of one of the spills or with certain Spill Prevention, Control, and Countermeasure (SPCC) regulations promulgated by the Environmental Protection Agency under the CWA. The largest spill occurred in 2013 at ORB's facilities located at Frog Lake in Iberville Parish, near Baton Rouge, Louisiana, when a corroded transfer pipeline ruptured and spilled a large amount of crude oil, estimated at more than 1,000 barrels, into a flooded wetland area. The second spill occurred in September of 2015, also at ORB's Frog Lake facilities. The third spill occurred in October of 2015 at an ORB facility at Crocodile Bayou in St. Martin Parish, Louisiana. The SPCC violations were discovered during a May 2015 inspection of ORB's oil storage barge at Frog Lake.

In the Complaint, the United States alleges violations of Sections 301(a), 311(b)(7)(A) or (D), 311(b)(7)(B)(ii) and 311(b)(7)(C) of the CWA, 33 U.S.C. 1311(a), 1321(b)(7)(A) or (D), 1321(b)(7)(B)(ii), and 1321(b)(7)(C). In addition, the Louisiana Department of Environmental Quality (LDEQ) alleges violations of La. R. S. 30:2076(A)(1) and (3), and Louisiana Administrative Code sections 33:IX.501.A, 33:IX.1701.B, 33:I.3915.A.3, and 33:I.3925.A, for the discharges of oil and ORB's failures to file a timely report or provide updated notice to the state hotline for reporting spills. The Complaint seeks the assessment of civil penalties, State response costs, and injunctive relief for the alleged violations. The proposed Consent Decree resolves the civil penalty, State response cost, and injunctive relief claims of the United States and LDEQ for the causes of action alleged in the Complaint by requiring ORB to perform corrective measures focused on spill detection and prevention and pay federal civil penalties of $615,000 and State civil penalties and response costs of $100,000.

The publication of this notice opens a period for public comment on the proposed Consent Decree. Comments should be addressed to the Assistant Attorney General, Environment and Natural Resources Division, and should refer to United States and Louisiana Department of Environmental Quality v. ORB Exploration, LLC, D.J. Ref. No. 90-5-1-1-11281. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $7.50 (25 cents per page reproduction cost) payable to the United States Treasury.

Jeffrey K. Sands,
Assistant Section Chief, Environmental Enforcement Section, Environment and Natural Resources Division.

[FR Doc. 2016-10105 Filed 4-28-16; 8:45 am]

BILLING CODE 4410-15-P